DEPARTMENT OF COMMERCE

Foreign-Trade Zones Board

[B-11-2024]

Production Activity Not Authorized; Foreign-Trade Zone (FTZ) 39; Trina Solar US Manufacturing Module 1, LLC (Trina Solar); (Solar Panels); Wilmer, Texas

On March 1, 2024, the Dallas/Fort Worth International Airport Board, grantee of FTZ 39, submitted a notification of proposed production activity to the FTZ Board on behalf of Trina Solar, within FTZ 39, in Wilmer, Texas.

The notification was processed in accordance with the regulations of the FTZ Board (15 CFR part 400), including notice in the Federal Register inviting public comment (89 FR 18893-18894, March 15, 2024). On July 1, 2024, the applicant was notified of the FTZ Board's decision that further review of the activity is warranted. The production activity described in the notification was not authorized. If the applicant wishes to seek authorization for this activity, it will need to submit an application for production authority, pursuant to section 400.23.

Dated: July 1, 2024.
Elizabeth Whiteman,
Executive Secretary.

[FR Doc. 2024-14793 Filed 7-5-24; 8:45 am]

BILLING CODE 3510-DS-P